NATIONAL AERONAUTICS AND SPACE ADMINISTRATION

[Notice 01-098]

Notice of Prospective Patent License

AGENCY: National Aeronautics and Space Administration.

ACTION: Notice of prospective patent license.

SUMMARY: NASA hereby gives notice that Bioque Technologies Inc. of Blacksburg, VA has applied for an exclusive license to practice the invention described and claimed in U.S. Patent No. 6,110,730, entitled “Whole Blood Cell Staining Device,” which is assigned to the United States of America as represented by the Administrator of the National Aeronautics and Space Administration. Written objections to the prospective grant of a license should be sent to Johnson Space Center.

DATES: Responses to this notice must be received by September 24, 2001.

FOR FURTHER INFORMATION CONTACT: Hardie R. Barr, Patent Attorney, NASA Johnson Space Center, Mail Stop HA, Houston,TX 77058-8452; telephone (281) 483-1001.

Dated: August 16, 2001.
Edward A. Frankle,
General Counsel.

[FR Doc. 01-21218 Filed 8-22-01; 8:45 am]

BILLING CODE 7510-01-P